DEPARTMENT OF ENERGY

Federal Energy Regulatory Commission

[Docket No. CP00-132-000]

Natural Gas Pipeline Company of America; Notice of Application for Certificate

March 31, 2000.

Take notice that on March 23, 2000, Natural Gas Pipeline Company of America (Natural or Applicant), 747 E. 22nd Street, Lombard, Illinois 60148-5072, filed in Docket No. CP00-132-000 an application pursuant to sections 7(b) and 7(c) of the Natural Gas Act (NGA) for permission and approval to abandon, by operating lease to Horizon Pipeline Company, L.L.C. (Horizon),¹ firm capacity on its system, and for certificate authority to construct and operate certain facilities, all as more fully set forth in the application which are on file with the Commission and open to public inspection. This filing may be viewed on the web at http://www.ferc.us/online/rims.htm (call 202-208-2222).

¹ Horizon has simultaneously filed applications in Docket Nos. CP00-129-000, CP00-130-000, and CP00-131-000 to construct, own, lease, operate and maintain a new natural gas pipeline (Horizon Project) from Joliet, Illinois to McHenry, Illinois.

Natural is seeking authority to abandon 380 MDth/d of firm capacity on its system by lease to Horizon pursuant to the terms of a Lease Agreement, dated January 18, 2000. Horizon will incorporate the leased capacity as part of its interstate pipeline system, thereby avoiding the need of building duplicate facilities. The leased capacity will run for a total of 42 miles, from an interconnection between Alliance Pipeline L.P. (Alliance) and Natural's Gulf Coast mainline (at a point approximately 9 miles south of Natural's Compressor Station 113 (CS 113) to the interconnection between Horizon's new pipeline and an existing 36-inch line of Natural (at a point approximately 33-miles north of CS 113). Central to the lease agreement is the construction and ownership by Horizon of a new 8,900 horsepower compressor at CS 113, which will have the effect of creating the 380 MDth/d of leased capacity.

The capacity lease, will also require Natural to construct certain new facilities and the rearrangement of certain existing Natural facilities. Specifically, Natural is seeking certificate authority to increase the horsepower of each of its nine 1,040 horsepower compressor units, totaling 9,360 horsepower, at CS 113, so that the new total will be 13,050 horsepower. Natural is also seeking to rearrange its 20-inch line that runs 63 miles north to Volo, Illinois and one of its 36-inch lines that runs north to Natural's Howard Street Lines ² so that in the future the Howard Street Lines will be served by a 20-inch line and a 36-inch line, in conjunction with the nine Natural compressors at CS 113.³ Natural seeks certificate authority for a tap at the interconnection with the new Horizon pipeline and a second tap at the point where the northern terminus of Horizon meets an existing west-to-east line of Natural. Natural also seeks certificate authority for revisions at its Streamwood meter station, which is at the start of the Howard Street Lines.

² A west-to-east system providing delivery capability to both Chicago and its northwestern suburbs.

³ This arrangement will provide Howard Street Lines with service that is substantially the same as that is provided currently under the current facility arrangement.

Natural states that neither Natural nor its customers will subsidize Horizon, because any costs to Natural will be more than offset by the lease payments it will receive from Horizon. Under the Lease Agreement, Horizon has contracted with Natural for an initial term of 20 years to lease capacity at $0.015 per Dth within a 42-mile section of Natural's pipeline system in Grundy, Will and DuPage Counties, Illinois. This lease payment compensates Natural for its related costs in providing the leased capacity, primarily the $7.8 million in facilities proposed by Natural in this application, but also the fuel associated with the maintenance of Natural's service to its customers.

Any questions regarding this application should be directed to James J. McElligott, Senior Vice President for Natural, 747 East 22nd, Lombard, Illinois 60148 at (630) 691-3525, or Philip R. Telleen, Attorney for Natural, 747 East 22nd, Lombard, Illinois 60148 at (630) 691-3749.

Any person desiring to be heard or to make protest with reference to said application should on or before April 21, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to practicipate as a party in any hearing therein must file a motion to intervene in accordance with the Commission's rules.

A person obtaining intervenor status will be placed on the service list maintained by the Commission and will receive copies of all documents filed by the Applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Natural to appear or be represented at the hearing.

Linwood A. Watson, Jr.,
Acting Secretary.

[FR Doc. 00-8462 Filed 4-5-00; 8:45 am]

BILLING CODE 6717-01-M